DEPARTMENT OF ENERGY

Federal Energy Regulatory Commission

[Project No. 2114-091 Washington]

Public Utility District No. 2 of Grant County Washington; Notice of Availability of Environmental Assessment

June 4, 2001.

In accordance with the National Environmental Policy Act of 1969 and the Federal Energy Regulatory Commission's (Commission) regulations, 18 CFR part 380 (Order No. 486, 52 FR 47910), the Office of Energy Projects has reviewed Public Utility District No. 2 of Grant County's application for an amendment to temporarily waive for the current year the spill flow requirements applicable to its Priest Rapids Project, located on the Columbia River in Grant, Yakima, Kittitas, Douglas, Benton and Chelan Counties, Washington and has prepared an Environmental Assessment (EA). The project occupies 3,051.92 acres of federal lands administered by the Bureau of Land Management Department of Energy, Department of Army, Bureau of Reclamation, and the U.S. Fish and Wildlife Service.

The EA contains the staff's analysis of the potential environmental impacts of the proposed amendment and alternatives developed by staff and concludes that approval of the staff recommended alternative would not constitute a major federal action that would significantly affect the quality of the human environment.

The EA is attached to a Commission order issued on June 1, 2001 for the above application. Copies of the EA are available for review at the Commission's Public Reference Room, located at 888 First Street, NE., Washington, DC 20426, or by calling (202) 208-1371. The EA may be viewed on the web at http://www.ferc.fed.us/online/rims.htm (call (202) 208-2222 for assistance).

For further information, contact Charles Hall at (202) 219-2853.

David P. Boergers,
Secretary.

[FR Doc. 01-14466 Filed 6-7-01; 8:45 am]

BILLING CODE 6717-01-M